DEPARTMENT OF THE INTERIOR

Bureau of Land Management

[AZ-910-0777-XP-241A]

State of Arizona Resource Advisory Council Meeting

AGENCY: Bureau of Land Management, Interior.

ACTION: Notice of Arizona Resource Advisory Council Meeting.

SUMMARY: In accordance with the Federal Land Policy and Management Act of 1976 and the Federal Advisory Committee Act of 1972, the U.S. Department of the Interior, Bureau of Land Management (BLM), Arizona Resource Advisory Council (RAC), will meet on June 19, 2008, in Phoenix, Arizona, at the BLM National Training Center located at 9828 North 31st Avenue in Phoenix from 8 a.m. and conclude at 4:30 p.m. Morning agenda items include: Review of the March 6, 2008, meeting minutes for RAC and Recreation Resource Advisory Council (RRAC) business; BLM State Director's update on statewide issues; RAC member orientation on BLM Programs and Federal Advisory Committee Act; presentations on BLM Solar Projects; and the proposed Goodyear Road; RAC questions on BLM Field Managers Rangeland Resource Team proposals; and reports by RAC working groups. A public comment period will be provided at 11:30 a.m. on June 19, 2008, for any interested publics who wish to address the Council on BLM programs and business.

Under the Federal Lands Recreation Enhancement Act, the RAC has been designated the RRAC, and has the authority to review all BLM and Forest Service (FS) recreation fee proposals in Arizona. The afternoon meeting agenda on June 19 will include review and discussion of the Recreation Enhancement Act (REA) Working Group Report, REA Work Group meeting schedule and future BLM/FS recreation fee proposals.

DATES: Effective Date: June 19, 2008.

FOR FURTHER INFORMATION CONTACT: Deborah Stevens, Bureau of Land Management, Arizona State Office, One North Central Avenue, Suite 800, Phoenix, Arizona 85004-4427, 602-417-9504.

Helen M. Hankins,
Acting State Director.

[FR Doc. E8-10899 Filed 5-14-08; 8:45 am]

BILLING CODE 4310-32-P